DEPARTMENT OF HOUSING AND URBAN DEVELOPMENT

[Docket No. FR-7024-N-02]

30-Day Notice of Proposed Information Collection: Family Report, MTW Family Report, MTW Expansion Family Report; OMB# 2577-0083

AGENCY: Office of the Assistant Secretary for Public and Indian Housing, HUD.

ACTION: Notice.

SUMMARY: HUD is seeking approval from the Office of Management and Budget (OMB) for the information collection described below. In accordance with the Paperwork Reduction Act (PRA), HUD is requesting comment from all interested parties on the proposed collection of information. HUD has revised the Form-50058 MTW Expansion in response to public comments received during the public comment period provided for by the 60-Day Notice of Proposed Information Collection. These revisions are more thoroughly described below. This publication is to provide notice to Public Housing Agencies (PHAs) of the revisions and to give PHAs the opportunity to comment on such revisions. The purpose of this notice is to allow for an additional 30 days of public comment.

DATES: Comments Due Date: February 28, 2020.

ADDRESSES: Interested persons are invited to submit comments regarding this proposal. Comments should refer to the proposal by name and/or OMB Control Number and should be sent to: Colette Pollard, Reports Management Officer, QDAM, Department of Housing and Urban Development, 451 7th Street SW, Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Dawn Smith, Office of Policy, Programs and Legislative Initiatives, PIH, Department of Housing and Urban Development, 451 7th Street SW, Room 3178, Washington, DC 20410; telephone 202-402-6488, (this is not a toll-free number). Persons with hearing or speech impairments may access this number via TTY by calling the Federal Relay Service at (800) 877-8339. Copies of available documents submitted to OMB may be obtained from Ms. Smith.

SUPPLEMENTARY INFORMATION: This notice informs the public that HUD is seeking approval from OMB for the information collection described in Section A. The Federal Register notice that solicited public comment on the information collection for a period of 60 days was published on August 19, 2019 at 84 FR 42943.

A. Overview of Information Collection

Title of Information Collection: Family Report, MTW Family Report, MTW Expansion Family Report.

OMB Approval Number: 2577-0083.

Type of Request: Revision of a currently approved collection.

Form Number: Form HUD-50058 Family Report, HUD-50058 MTW Family Report, Form HUD-50058 MTW Expansion Family Report.

Description of the need for the information and proposed use: The Office of Public and Indian Housing of the Department of Housing and Urban Development (HUD) provides funding to public housing agencies (PHAs) to administer assisted housing programs. Form HUD-50058, Form HUD-50058 MTW, and Form HUD-50058 MTW Expansion Family Reports solicit demographic, family profile, income and housing information on the entire nationwide population of tenants residing in assisted housing. The assisted housing programs include the Public Housing, Section 8 Housing Choice Vouchers, Section 8 Project-Based Vouchers, Section 8 Moderate Rehabilitation programs, Moving to Work (MTW) Demonstration, and MTW Local Non-Traditional programs. The information collected through the Form HUD-50058 MTW Expansion will also be used to monitor and evaluate the expansion MTW PHAs (PHAs designated as MTW pursuant to the 2016 Expansion Statute) that are participating in the MTW Demonstration program. The information collected through these forms will be used for the following purposes.

• Analyze assisted housing programs;

• Determine the occupancy level of public housing and calculate the operating subsidy in accordance with 24 CFR 990;

• Permit PHAs to monitor their own reporting to identify favorable and unfavorable trends;

• Monitor PHAs and participants for compliance with program regulations and requirements;

• Fraud detection and prevention via rent/income monitoring;

• Housing inventory and development of program initiatives with emphasis on the housing of special needs groups; and

• Make available accurate demographic information depicting tenant characteristics to Congress and other interested parties (however this data is typically scrubbed of any personally identifiable information).

This 30-Day Notice of Proposed Information Collection provides PHAs with notice of revisions to the proposed Form-50058 MTW Expansion published on August 19, 2019 in the 60-Day Notice of Proposed Information Collection at 84 FR 42943. The Form-50058 MTW Expansion published in this notice revises some of the items published in the 60-Day Notice in response to public and internal comments received. These revisions are summarized in Section D of this notice. Additionally, HUD has summarized public comments and provided responses to those comments in Section E of this notice.

Respondents (i.e. affected public): Public Housing Agencies, State and local governments, individuals and households.

Information collection | Number of respondents (PHA) (with responses) | * Average number of reponses per respondent (with responses) | Total annual responses | Minutes per response | Total hours | Regulatory reference (24 CFR) * See attached
Form HUD-50058 New Admission | 4,014 | 87 | 349,218 | 40 | 232,812 | 908.101
Form HUD-50058 Recertification | 4,014 | 583 | 2,340,162 | 20 | 780,054 | 908.101
Form HUD-50058 MTW New Admission | 39 | 529 | 20,631 | 40 | 13,754 | 908.101
Form HUD-50058 MTW Recertification | 39 | 4,018 | 156,702 | 20 | 52,234 | 908.101
Form HUD-50058 MTW Expansion New Admission | 100 | 87 | 8,700 | 40 | 5,800 | 908.101
Form HUD-50058 MTW Expansion Recertification | 100 | 583 | 58,300 | 20 | 19,433 | 908.101
Totals | 4,153 |  | 2,933,713 |  | 1,104,087 |
* Average Number of Responses per Respondent = Total Annual Responses/Number of Respondents.
Estimated annualized hourly cost to respondents (PHA); Form HUD-50058: To report using Form HUD-50058 Family Report, it will cost the average PHA $1,015.00 annually to enter and submit all data for New Admission and $3,400.83 annually for Recertification.
Estimated annualized hourly cost to respondents (PHA); Form HUD-50058 MTW: To report using Form HUD-50058 Family Report, it will cost the average PHA $6,171.67 annually to enter and submit all data for New Admissions and $23,438.33 annually for Recertification.
Estimated annualized hourly cost to respondents (PHA); Form HUD-50058 MTW Expansion: To report using Form HUD-50058 Family Report, it will cost the average PHA $1,015.00 annually to enter and submit all data for New Admissions and $3,400.78 annually for Recertification.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

D. Overview of Significant Changes Made to the Form-50058 MTW Expansion

The following represents the most notable changes to the Form-50058 MTW Expansion. However, other changes may have also been made which may not be identified below. The Form-50058 MTW Expansion should be reviewed in its entirety to determine the exact nature and scope of these revisions. A copy of the revised Form-50058 MTW Expansion can be obtained per the information provided earlier in this notice under For further information, or on the HUD Moving to Work website at https://www.hud.gov/mtw.

• The response codes for line 2w, End of Participation reasons, were updated to reflect feedback from commenters.

• Line 2x, Interim Reexamination reasons, was added to allow HUD to know why a PHA is using action type 3, Interim Reexamination. This includes changes associated with rent hardship requests and stepped rents.

• Line 3r, Average number of hours worked per week, was one of two lines added to this section of the form to assist with capturing information about work requirements.

• Line 3s, Work requirement compliance, is the second line that was added in this section to assist with capturing information about work requirements.

• Line 5i, Date of last Housing Quality Standards (HQS) inspection, was updated to remove the word “annual” from the label since PHAs may perform inspections at intervals other than annual (e.g., biennial).

• Line 7h, Prior year or current year/anticipated income, replaces the line 7h that was previously marked as “Reserved”. This line was added to capture whether a PHA is reporting prior year or current year/anticipated income for the household. The prior year provision is in the Housing Opportunity Through Modernization Act of 2016 (HOTMA) and, while all PHAs will need to complete it, PHAs in cohort 2 that will study rent reform may also need to reflect “prior year” income is being used.

• The title of Section 8 of the form was changed from “Expected Income Per Year” to “Deductions and Allowances” to better reflect the content of the section. This change is cosmetic and does not affect submission of data to the PIH Information Center (PIC).

• Line 8u, Deductions and allowances not reflected above, was changed to clarify that it will capture any deductions and allowances not captured on other lines above this line in this section. It is still intended to also be used for Local, Non-Traditional Property-Based and Local, Non-Traditional Tenant-Based programs.

• Line 8x, Total allowances, was updated to reflect that line 8u will be used in the calculation to determine the value for this line.

• Line 8y, Adjusted annual income, has been changed so that it is now the same as the Form-50058.

• Lines 10u, 11u, 11ap, 12x, and 12ak were updated to reflect the updated response code labels for the MTW alternate rent types so that it is clearer that they are for MTW. This will also make it clearer when looking at the data in reports, etc.

• Lines 11d, 11e, and 11f for project-based voucher (PBV) portability have been restored to the form. They are to be used to reflect that a household that was a tenant-based voucher (TBV) participant at the initial PHA has ported to the receiving PHA and received a PBV.

• Lines 11v and 12y, Alternate HAP to owner, had been omitted and have been added to collect this information when one of the alternate rent types is utilized.

• Lines 11w and 12z, Alternate tenant rent, were updated to change the word “or” to “including” to clarify that they will be completed when a selection is made in 11u and when the program type is Local, Non-Traditional Property-Based and Local, Non-Traditional Tenant-Based.

• Lines 11ar and 12an, Alternate prorated tenant rent, had been omitted and have been added to collect this information when one of the alternate rent types is utilized.

• Line 12ap, Additional financial support for tenant-based voucher family, and line 12aq, Financial incentive for property owner, were added to assist in data collection when landlord incentives are utilized.

E. Summary of Form-50058 MTW Expansion Comments and HUD Responses

Comment: A commenter stated that HUD needs to be able to track rent hardship requests, especially, but not necessarily limited to, the MTW Expansion cohort 2 PHAs, which will evaluate rent reform. Further, HUD needs to be able to track stepped rent increases.

HUD Response: HUD has added line 2x, Interim Reexamination reasons, and has identified “Alternate rent hardship request” and “Stepped rent update without income reexamination” as two of the response codes. Other common reasons for the action type of Interim Reexaminations were also provided.

Comment: Commenters encouraged HUD to further refine the End of Participation reason response codes so that they are more accurate and eliminate the overlap among some of the reasons in the initial list.

HUD Response: HUD worked with existing MTW PHAs and internally with PD&R (Policy Development and Research) and has updated the list of response codes on the revised draft of the form.

Comment: A commenter stated that PHAs need to be able to reflect if prior year or current year income is entered on the form. It was stated that this MTW Expansion cohort 2 PHAs may need this and that it is also referred to in HOTMA.

HUD Response: HUD has incorporated this change into the revised draft of the form.

Comment: A commenter stated that in order to track information about households subject to a work requirement, HUD should add data elements for average number of hours worked per week, over the past year, and for household compliance with a PHA's work requirement policy.

HUD Response: HUD has incorporated these changes into the revised draft of the form.

Comment: A commenter stated that in order to track information about landlord incentives, HUD should add data elements for additional financial support for tenant-based voucher families and financial incentive for property owner.

HUD Response: HUD has incorporated these changes into the revised draft of the form.

Comment: A commenter suggested clarifying the labels for the MTW alternate rent types listed Sections 10, 11, and 12 of the form so that it is clearer that they are tied to the MTW program.

HUD Response: HUD has incorporated these changes into the revised draft of the form.

Comment: A commenter expressed concern about the required data collection for Local, Non-Traditional Tenant-Based and Local, Non-Traditional Property-Based assistance. They were concerned about the ability to be able to submit this data due to the different types of local, non-traditional programs that exist and the administrative burden it could cause to PHAs and partner agencies to try to collect and submit this data on the Form-50058 MTW Expansion. Finally, the commenter stated that partner agencies may already be submitting data in other HUD systems.

HUD Response: HUD understands the concerns expressed; however, due to a Government Accountability Office (GAO) audit finding HUD must begin to collect data for households assisted through local, non-traditional activities. HUD will ensure flexibilities are built into the PIC system so that an agency will be able to provide the information they do have but will not receive fatal errors for information that cannot be provided.

Comment: A commenter stated that current MTW agencies continue to experience issues with submitting Form-50058 MTW data to PIC, specifically with the system not identifying the source of an error and recommend changes be made to the system so that this information will be known.

HUD Response: PIH is working with REAC (Real Estate Assessment Center) to ensure that the upgrade to PIC includes this information.

Comment: A commenter asked for clarification on line 1h, Unit Real Estate ID Number, and how it will affect reporting data for program types other than public housing.

HUD Response: REAC has added this unique identifier data element to PIC initially for public housing because PIC already has unit numbers and address information through the building entrances that the units are attached to. It will be created for other program types based on the unit address information provided on the Form-50058 MTW Expansion that will be geocoded, so that each unit address will have its own unique identifier.

Comment: A commenter stated that without a copy of the Technical Reference Guide (TRG) it is difficult to fully understand what will need to be submitted by MTW Expansion PHAs and what errors are going to be enforced.

HUD Response: HUD is currently working to conclude work on the first release for MTW Expansion. As part of this, REAC is working on the TRG and will provide it to the software vendors once it is completed.

Comment: A commenter noted that previous listening sessions and conferences had appeared to indicate that the PIC-NG would utilize a single Form-50058 format for all PHAs.

HUD Response: Since MTW Expansion PHAs will be the first to use PIC-NG and all other PHAs will not be moved over until some point after that, HUD is not able to move to using a single Form-50058 at this time.

Comment: A commenter noted that for consistency with other program codes, the “Local, Non-Traditional Tenant-Based” program code of LN should instead be LT.

HUD Response: As mentioned in the previous publication, HUD is utilizing the program codes from the Form-50058 MTW with some exceptions. Since LN is one of the codes on the MTW form, it will be retained on the MTW Expansion form as well.

Comment: A commenter expressed concerns about lines for assets and allowances of the Form-50058 MTW Expansion that mention “annual” since those items may be biennial or triennial.

HUD Response: HUD clarified this comment with the commenter and confirmed that the form and upgraded PIC system, called PIC-NG, will allow for biennial and triennial recertifications. Line 5i, Date of Last Annual HQS Inspection, was also mentioned during the conversation. We have removed the word annual from this line's label in response.

Comment: A commenter stated that line 8u, Deductions and allowances not reflected above, would be more useful if PHAs could report information with more flexibility in other areas of Section 8 of the form and utilize this line for items not addressed elsewhere. Line 8x could then be used to total lines 8e, 8n, 8p, 8s, 8t, and 8u and no change would be needed for line 8y.

HUD Response: HUD has incorporated these changes into the revised draft of the form.

Comment: A commenter stated that lines for alternate HAP to owner and alternate prorated tenant rent appeared to be missing from the form in Sections 11 and 12, which would allow HUD to get similar information for alternate rent as is collected for the standard rent calculation.

HUD Response: HUD acknowledges that these lines were omitted from the form in error and has added them to the revised draft of the form.

Comment: A commenter stated that lines 11d through 11f are needed to report information on tenants that have ported into a receiving PHA's jurisdiction after being housed under a tenant-based voucher in the initial PHA's jurisdiction.

HUD Response: HUD acknowledges that these lines were omitted from the form in error and has added them back to the revised draft of the form.

Comment: A commenter stated that if a family can participate in FSS or MTW self-sufficiency, but not both, then both programs should be able to share the family services table in line 17i.

HUD Response: HUD clarified this comment with the commenter and stated that a household can participate in both programs. Therefore, separate family services tables are needed to be able to identify which needs are being met through FSS and which are being met through MTW self-sufficiency.

Dated: January 10, 2020.
Colette Pollard,
Department Report Management Officer, Office of the Chief Information Officer.

[FR Doc. 2020-01564 Filed 1-28-20; 8:45 am]

BILLING CODE 4210-67-P